DEPARTMENT OF COMMERCE

National Oceanic and Atmospheric Administration

[I.D. 081800F]

North Pacific Fishery Management Council; Public Meeting

AGENCY: National Marine Fisheries Service (NMFS), National Oceanic and Atmospheric Administration (NOAA), Commerce.

ACTION: Notice of plan team meeting.

SUMMARY: The North Pacific Fishery Management Council’s (Council) Plan Team for the Bering Sea/Aleutians Islands King and Tanner Crab Fishery Management Plan will meet in Kodiak, Alaska.

DATES: The meeting will be held on September 19-20, 2000.

ADDRESSES:

The meeting will be held at the Kodiak Fisheries Research Center, 301 Research Court, Kodiak, AK.

Council address: North Pacific Fishery Management Council, 605 W. 4th Ave., Suite 306, Anchorage, AK 99501-2252.

FOR FURTHER INFORMATION CONTACT: Dave Witherell, North Pacific Fishery Management Council; 907-271-2809.

SUPPLEMENTARY INFORMATION: The meeting will begin at 9:00 a.m. on Tuesday, September 19, continuing through September 20. The Plan Team will prepare the annual Stock Assessment and Fishery Evaluation report for Bering Sea/Aleutian Islands king and Tanner crab stocks and review a proposal by the Alaska Marine Conservation Council regarding habitat and bycatch management measures.

Although non-emergency issues not contained in this agenda may come before this Council for discussion, those issues may not be the subject of formal action during this meeting. Action will be restricted to those issues specifically listed in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: August 18, 2000.
Richard W. Surdi,
Acting Director, Office of Sustainable Fisheries, National Marine Fisheries Service.

[FR Doc. 00-21804 Filed 8-24-00; 8:45 am]

Billing Code: 3510-22-S